SMALL BUSINESS ADMINISTRATION

[Disaster Declaration #16864 and #16865; Washington Disaster Number WA-00091]

Presidential Declaration Amendment of a Major Disaster for Public Assistance Only for the State of Washington

AGENCY: U.S. Small Business Administration.

ACTION: Amendment 1.

SUMMARY: This is an amendment of the Presidential declaration of a major disaster for Public Assistance Only for the State of Washington (FEMA-4584-DR), dated 02/04/2021. Incident: Wildfires and Straight-line Winds. Incident Period: 09/01/2020 through 09/19/2020.

DATES: Issued on 03/19/2021.

Physical Loan Application Deadline Date: 04/05/2021.

Economic Injury (EIDL) Loan Application Deadline Date: 11/04/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Washington, dated 02/04/2021, is hereby amended to include the following areas as adversely affected by the disaster.

Primary Counties: Ferry.

All other information in the original declaration remains unchanged.

(Catalog of Federal Domestic Assistance Number 59008)

Cynthia Pitts,
Acting Associate Administrator for Disaster Assistance.

[FR Doc. 2021-06160 Filed 3-24-21; 8:45 am]

BILLING CODE 8026-03-P